DEPARTMENT OF THE INTERIOR

Fish and Wildlife Service

Notice of Availability of a Draft Environmental Assessment and Receipt of an Application for an Incidental Take Permit for the Harding Property, Douglas County, CO

AGENCY: Fish and Wildlife Service, Interior.

ACTION: Notice of availability and receipt of application.

SUMMARY: This notice advises the public that Susan K. Harding (Applicant) has applied to the Fish and Wildlife Service (Service) for an incidental take permit pursuant to section 10(a)(1)(B) of the Endangered Species Act of 1973 as amended. The Service proposes to issue a 3-year permit to the Applicant that would authorize the incidental take of the Preble's meadow jumping mouse (Preble's) (Zapus hudsonius preblei), federally listed as threatened, and loss and modification of its habitat associated with construction of a single-family residence in Douglas County, Colorado. Construction of the single family residence will result in the loss of up to 0.294 acres of grassland that provides potential foraging and hibernation habitat for the mouse. The permit application includes a combined Environmental Assessment/Habitat Conservation Plan (EA/HCP), which is available for public review and comment. The HCP fully describes the proposed project and the measures the Applicant would undertake to minimize and mitigate project impacts to the Preble's.

The Service requests comments on the EA/HCP for the proposed issuance of the incidental take permit. We provide this notice pursuant to section 10(a) of the Endangered Species Act and National Environmental Policy Act regulations (40 CFR 1506.6). All comments on the EA and permit application will become part of the administrative record and will be available to the public.

DATES: Written comments on the permit application and EA/HCP should be received on or before December 22, 2000.

ADDRESSES: Comments regarding the permit application or the EA/HCP, or requests for the documents, should be addressed to LeRoy Carlson, Field Supervisor, Fish and Wildlife Service, Colorado Field Office, 755 Parfet Street, Suite 361, Lakewood, Colorado 80215. Comments may be sent by facsimile to (303) 275-2371. Please reference permit number PRT-TE035844-0 in any comments submitted.

FOR FURTHER INFORMATION CONTACT: Ms. Kathleen Linder, Fish and Wildlife Biologist, Colorado Field Office, telephone (303) 275-2370.

SUPPLEMENTARY INFORMATION:

Document Availability

Individuals wishing copies of the EA/HCP and associated documents for review should immediately contact the above office. Documents also will be available for public inspection, by appointment, during normal business hours at the above address.

Background

Section 9 of the Endangered Species Act and Federal regulation prohibit the “take” of a species listed as endangered or threatened (take is defined under the Endangered Species Act as to harass, harm, pursue, hunt, shoot, wound, kill, trap, capture or collect, or to attempt to engage in any such conduct). However, the Service may issue permits to authorize “incidental take” (defined by the Endangered Species Act as take that is incidental to, and not the purpose of, the carrying out of an otherwise lawful activity) of listed species under limited circumstances. Regulations governing permits for threatened species are promulgated in 50 CFR 17.32. Regulations governing permits for endangered species are promulgated in 50 CFR 17.22.

The proposed action is the issuance of a permit under section 10(a)(1)(B) of the Endangered Species Act to allow the incidental take of Preble's during the construction of a single family residence at the site. The proposed project will directly affect approximately 0.294 acres of potential habitat for Preble's. An HCP has been developed as part of the preferred alternative. The proposed HCP will allow for the incidental take of the Preble's by permitting a single family residence to be constructed in an area that may be periodically used as foraging or hibernation habitat. Construction will result in about 0.12 acres of permanent habitat loss and another 0.18 acres of temporary effects to the habitat associated with this localized disturbance.

Alternatives considered in addition to the proposed action were; building at an alternate location, waiting for the Douglas County Regional 10(a)(1)(B) Permit, and no action. The draft EA analyzes the onsite, offsite, and cumulative impacts of the proposed project and all associated development and construction activities and mitigation activities on the Preble's, other threatened or endangered species, vegetation, wildlife, wetlands, geology/soils, land use, water resources, air and water quality, or cultural resources. None of the proposed impacts occur within the riparian corridor. All of the proposed impacts are in upland areas outside of the 100-year floodplain. The Applicant, using the Service's definition of Preble's habitat, has determined that the proposed project would impact approximately 0.294 acres of potential Preble's habitat. The mitigation for the identified impacts may provide a net benefit to the Preble's and other wildlife by improving riparian habitat through planting of additional shrub vegetation.

The Preble's is the only known federally listed species that occurs on site and has the potential to be directly affected by the proposed project. The Applicant has agreed to implement the following measures to minimize and mitigate impacts that may result from incidental take of Preble's:

In order to compensate for the loss of Preble's habitat, a 0.59-acre area in the northeast corner of the property will be preserved and enhanced at a ratio of 2.0 to 1 by planting shrubs.

This notice is provided pursuant to section 10(c) of the Endangered Species Act. The Service will evaluate the permit application, the EA/HCP, and comments submitted therein to determine whether the application meets the requirements of section 10(a) of the Endangered Species Act. If it is determined that those requirements are met, a permit will be issued for the incidental take of Preble's. The final permit decision will be made no sooner than December 22, 2000.

Dated: November 15, 2000.
Elliott Sutta,
Acting Regional Director, Denver, Colorado.

[FR Doc. 00-29830 Filed 11-21-00; 8:45 am]

BILLING CODE 4310-55-P